DEPARTMENT OF ENERGY

Federal Energy Regulatory Commission

[Dockets Nos. RM05-25-000; RM05-17-000]

Preventing Undue Discrimination and Preference in Transmission Service; Notice of Technical Conference

September 7, 2006.

Take notice that on October 12, 2006, the Federal Energy Regulatory Commission (Commission) will host a technical conference to discuss issues raised in the Notice of Proposed Rulemaking issued in this proceeding. Preventing Undue Discrimination and Preference in Transmission Service, 115 FERC ¶ 61,211 (2006). The technical conference will be held from 9 a.m. to 4 p.m. (EDT) at the Federal Energy Regulatory Commission, 888 First Street, NE., Washington, DC 20426, in the Commission Meeting Room. All interested persons are invited to attend. A further notice with a detailed agenda will be issued in advance of the conference.

A free Webcast of this event is available through http://www.ferc.gov. Anyone with Internet access who desires to view this event can do so by navigating to www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Perkowski or David Reininger at 703-993-3100.

FERC conferences are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact:

Daniel Hedberg, Office of Energy Markets and Reliability, Federal Energy Regulatory Commission, 888 First Street, NE., Washington, DC 20426. (202) 502-6243. Daniel.Hedberg@ferc.gov.

Kathleen Barrón, Office of the General Counsel—Energy Markets, Federal Energy Regulatory Commission, 888 First Street, NE., Washington, DC 20426. (202) 502-646. Kathleen.Barron@ferc.gov.

Magalie R. Salas,
Secretary.

[FR Doc. E6-15179 Filed 9-12-06; 8:45 am]

BILLING CODE 6717-01-P